DEPARTMENT OF LABOR

Office of the Secretary

Providing Job Training for People With Disabilities

AGENCY: Bureau of International Labor Affairs, Department of Labor.

Announcement Type: New. Notice of Availability of Funds and Solicitation for Cooperative Agreement Applications. The full announcement is posted on http://www.Grants.Gov as well as on the DOL Web-site at http://www.dol.gov/ilab.

Funding Opportunity Number: SGA 08-03

Key Dates: The closing date for receipt of applications is 30 Days After Publication via Grants.Gov.

Funding Opportunity Description:

The U.S. Department of Labor (USDOL), Bureau of International Labor Affairs (ILAB), announces the availability of funds to be awarded by Cooperative Agreement (hereinafter referred to as “grant” or “Cooperative Agreement”) to one qualifying organization for the purpose of supporting job placement of People With Disabilities (PWDs) in the Costa Rican labor market. Approximately $ 470,000 dollars are available for award. Specific objectives of the grant includes: increasing employer awareness about the benefits of hiring PWDs, increasing the ability of a variety of organizations to provide access to job training and computer adaptive technology for PWDs, and increasing a variety of local organizations ability to provide case management of PWDs training and job placement. The duration of the project funded by this solicitation is 2-3 years. The start date of program activities will be negotiated upon award of the Cooperative Agreement, but will be no later than September 30, 2008.

ILAB is authorized to award and administer this program by the Department of Labor Appropriations Act, 2008, Public Law No. 110-161, 121 Stat. 1844 (2007).

The full Solicitation for Grant Application is posted on http://www.Grants.Gov under U.S. Department of Labor/ILAB. Only Applications submitted through http://www.Grants.Gov will be accepted. If you need to speak to a person concerning these grants, or if you have issues regarding access to the Grants.gov Web site, you may telephone Lisa Harvey at 202-693-4592 (not a toll-free number).

Signed at Washington, DC, this 4th day of April, 2008.
Lisa Harvey,
Grant Officer.

[FR Doc. E8-7597 Filed 4-9-08; 8:45 am]

BILLING CODE 4510-28-P